DEPARTMENT OF COMMERCE

International Trade Administration

The Manufacturing Council: Meeting

AGENCY: International Trade Administration, U.S. Department of Commerce.

ACTION: Supplemental Notice of a Meeting.

SUMMARY: The Manufacturing Council will hold a meeting to discuss the Sustainable Manufacturing Initiative and the Manufacturing 2040 project.

DATES: July 23, 2008.

Time: 2 p.m. (EDT).

ADDRESSES: U.S. Department of Commerce, 1401 Constitution Avenue, NW., Room 4830, Washington, DC 20230.

FOR FURTHER INFORMATION, CONTACT: The Manufacturing Council Executive Secretariat, Room 4043, Washington, DC 20230 (Phone: 202-482-1369), or visit the Council's Web site at http://www.manufacturing.gov/council.

Dated: July 11, 2008.
Kate Sigler,
Executive Secretary, The Manufacturing Council.

[FR Doc. E8-16284 Filed 7-16-08; 8:45 am]

BILLING CODE 3510-DR-P